DEPARTMENT OF JUSTICE

Federal Bureau of Investigation

Meeting of the Compact Council for the National Crime Prevention and Privacy Compact

AGENCY: Federal Bureau of Investigation, Department of Justice.

ACTION: Meeting notice.

SUMMARY: The purpose of this notice is to announce a meeting of the National Crime Prevention and Privacy Compact Council (Council) created by the National Crime Prevention and Privacy Compact Act of 1998 (Compact).

DATES: The Council will meet in open session from 9 a.m. (EST) until 5 p.m. (EST) on November 6, 2024, and 9 a.m. (EST) until 1 p.m. (EST) on November 7, 2024.

ADDRESSES: The meeting will take place at the Hilton Orlando, 6001 Destination Parkway, Orlando, Florida, 32819.

FOR FURTHER INFORMATION CONTACT: Inquiries may be addressed to Ms. Chasity S. Anderson, FBI Compact Officer, Biometric Technology Center, 1000 Custer Hollow Road, Clarksburg, West Virginia, 26306, telephone 304-625-2803.

SUPPLEMENTARY INFORMATION: Thus far, the Federal Government and 35 states are parties to the Compact which governs the exchange of criminal history records for licensing, employment, immigration and naturalization matters, and similar noncriminal justice purposes. The Compact also provides a legal framework for the establishment of a cooperative federal-state system to exchange such records.

The United States Attorney General appointed 15 persons from State and Federal agencies to serve on the Council. The Council will prescribe system rules and procedures for the effective and proper operation of the Interstate Identification Index system for noncriminal justice purposes.

Matters for discussion are expected to include:

(1) Council's Strategic Plan Update

(2) Proposed Changes to the Security and Management Control Outsourcing Standard for Non-Channelers

(3) Proposed Amendments to the Compact Council Procedures for Compliant Conduct and Responsible Use of the Interstate Identification Index (III) System for Noncriminal Justice Purposes (Sanctions Rule)

The meeting will be conducted with a blended participation option. The meeting will be open to the public on a first-come, first-serve basis. Virtual participation options are available. To register for participation, individuals must provide their name, city, state, phone, email address and agency/organization to compactoffice@fbi.gov by October 25, 2024. Individuals registering for participation must note their preference of in-person or virtual participation. Information regarding virtual participation will be provided prior to the meeting to registered individuals attending virtually.

Any member of the public wishing to file a written statement with the Council or wishing to address this session of the Council should notify the FBI Compact Officer, Ms. Chasity S. Anderson at compactoffice@fbi.gov, at least 7 days prior to the start of the session. The notification should contain the individual's name and corporate designation, consumer affiliation, or government designation, along with a short statement describing the topic to be addressed and the time needed for the presentation. Individuals will ordinarily be allowed up to 15 minutes to present a topic. The Compact Officer will compile all requests and submit to the Compact Council for consideration.

Individuals requiring special accommodations should contact Ms. Anderson at compactoffice@fbi.gov no later than October 25, 2024. Please note all personal registration information may be made publicly available through a Freedom of Information Act request.

Chasity S. Anderson,
FBI Compact Officer, Criminal Justice Information Services Division, Federal Bureau of Investigation.

[FR Doc. 2024-22598 Filed 10-1-24; 8:45 am]

BILLING CODE 4410-02-P